DEPARTMENT OF TRANSPORTATION

Bureau of Transportation Statistic

[Docket No. BTS-00-7489]

Motor Carrier Financial and Operating Information; Requests for Exemptions From Public Release of Reports

AGENCY: Bureau of Transportation Statistics, DOT.

ACTION: Notice.

SUMMARY: Class I and Class II motor carriers of property and household goods are required to file annual and quarterly reports with the Bureau of Transportation Statistics (BTS). As provided by statute, carriers may request that their reports be withheld from public release. BTS has received three requests covering the 1999 annual report, which also request an exemption from public release of the 2000 quarterly reports. BTS invites comments on these requests.

DATES: Comments must be submitted by July 14, 2000.

ADDRESSES: Please direct comments to the Docket Clerk, Docket No. BTS-00-7489, Department of Transportation, 400 Seventh Street, SW., Room PL-401, Washington, DC 20590, from 10 a.m. to 5 p.m., Monday through Friday, except federal holidays.

Comments should identify the docket number and be submitted in duplicate to the address listed above. Commenters wishing the Department to acknowledge receipt of their comments must submit with those comments a self-addressed stamped postcard on which the following statement is made: Comments on Docket BTS-00-7489. The Docket Clerk will date stamp the postcard and mail it back to the commenter.

If you wish to file comments using the Internet, you may use the US DOT Dockets Management System website at http://dms.dot.gov. Please follow the instructions online for more information.

FOR FURTHER INFORMATION CONTACT: David Mednick, K-1, Bureau of Transportation Statistics, 400 Seventh Street, SW., Washington, DC 20590; (202) 366-8871; fax: (202) 366-3640; e-mail: david.mednick@bts.gov.

SUPPLEMENTARY INFORMATION: Under 49 U.S.C. 14123 and its implementing regulations at 49 CFR 1420, BTS collects financial and operating information from for-hire motor carriers of property and household goods. The data are collected on annual Form M, filed by Class I and Class II carriers, and quarterly Form QFR, filed only by Class I carriers. The data are used by the Department of Transportation, other federal agencies, motor carriers, shippers, industry analysts, labor unions, segments of the insurance industry, investment analysts, and the consultants and data vendors that support these users. Among the uses of the data are: (1) Developing the U.S. national accounts and preparing the quarterly estimates of the Gross Domestic Product, which help us better understand the U.S. economy and the motor carrier industry's role in it; (2) measuring the performance of the for-hire motor carrier industry and segments within it; (3) monitoring carrier safety; (4) benchmarking carrier performance; and (5) analyzing motor carrier safety and productivity.

Generally, all data are made publicly available. A carrier can, however, request that its report be withheld from public release, as provided for by statute, 49 U.S.C. 14123(c)(2), and its implementing regulations, 49 CFR 1420.9. BTS will grant a request upon a proper showing that the carrier is not a publicly held corporation or that the carrier is not subject to financial reporting requirements of the Securities and Exchange Commission, and that the exemption is necessary to avoid competitive harm and to avoid the disclosure of information that qualifies as trade secret or privileged or confidential information under 5 U.S.C. 552(b)(4).

The carrier must submit a written request containing supporting information. BTS must receive the request by the report's due date, unless it is postmarked by the due date or there are extenuating circumstances. Requests covering the quarterly reports must be received by the due date of the annual report that relates to the prior year. In its request, a carrier may want or need to present information that is itself confidential. In this case, the carrier must clearly identify the information contained in its submittal that it believes should be protected from public release and provide information supporting its claim of confidential treatment. If BTS agrees, it will withhold the identified information.

In accordance with our regulations, after each due date of each annual report BTS then publishes a notice, such as this one, in the Federal Register requesting comments on any requests it has received. After considering the requests and comments, BTS will decide to grant or deny each request no later than 90 days after the request's due date. While a decision is pending, BTS will not publicly release the report except as allowed under 49 CFR 1420.10(c).

Request for Comments

BTS invites comments on several carrier requests for exemption from public release. These requests cover the 1999 annual report and the 2000 quarterly reports. Comments should be made within the context of the governing regulations at 49 CFR 1420.9, which were published in the Federal Register on March 23, 1999 (64 FR 13916). We are inviting your comments on requests from the following carriers:

H&R Transport, Inc. (MC 148000)

PGT Trucking, Inc. (MC 155377)

Reliable Carriers, Inc. (MC 172994)

If you wish to read their exemption requests and the comments submitted in response to this Notice, use the DOT Dockets Management System. This is located at the Department of Transportation, 400 Seventh Street, SW., Room PL-401, Washington, DC 20590, and is open from 10:00 a.m. to 5:00 p.m., Monday through Friday, except federal holidays. Internet users can access the Dockets Management System at http://dms.dot.gov. Please follow the instructions online for more information and help.

You must also use to Dockets Management System if you wish to comment on one or more exemption requests. Please follow the instructions listed above under ADDRESSES.

Ashish Sen,
Director.

[FR Doc. 00-14990 Filed 6-13-00; 8:45 am]

BILLING CODE 4910-FE-P